DEPARTMENT OF HOMELAND SECURITY

Coast Guard

33 CFR Part 117

[CGD01-07-020]

Drawbridge Operation Regulations; Taunton River, Fall River and Somerset, MA

AGENCY: Coast Guard, DHS.

ACTION: Notice of temporary deviation from regulations.

SUMMARY: The Commander, First Coast Guard District, has issued a temporary deviation from the regulation governing the operation of the Brightman Street Bridge across the Taunton River at mile 1.8, between Fall River and Somerset, Massachusetts. Under this temporary deviation, the bridge may remain in the closed position from 9 p.m. on April 13, 2007 through 5 p.m. on April 28, 2007. This deviation is necessary to facilitate un-scheduled bridge maintenance.

DATES: This deviation is effective from 9 p.m. on April 13, 2007 through 5 p.m. on April 28, 2007.

ADDRESSES: Materials referred to in this document are available for inspection or copying at the First Coast Guard District, Bridge Branch Office, 408 Atlantic Avenue, Boston, Massachusetts, 02110, between 7 a.m. and 3 p.m., Monday through Friday, except Federal holidays. The telephone number is (617) 223-8364. The First Coast Guard District Bridge Branch Office maintains the public docket for this temporary deviation.

FOR FURTHER INFORMATION CONTACT: John McDonald, Project Officer, First Coast Guard District, at (617) 223-8364.

SUPPLEMENTARY INFORMATION: The Brightman Street Bridge, across the Taunton River at mile 1.8, between Fall River and Somerset, Massachusetts, has a vertical clearance in the closed position of 27 feet at mean high water and 31 feet at mean low water. The existing drawbridge operation regulations are listed at 33 CFR 117.619.

The owner of the bridge, Massachusetts Highway Department (MHD), requested a temporary deviation to facilitate un-scheduled emergency bridge maintenance, replacement of deteriorated floor beams. The bridge will not be able to open while the bridge maintenance is underway.

Under this temporary deviation, the Brightman Street Bridge need not open for the passage of vessel traffic from 9 p.m. on April 13, 2007 through 5 p.m. on April 28, 2007.

An 18′ × 43′ construction work barge may be located in the channel during the prosecution of this bridge maintenance. The work barge will move upon request by calling the bridge tender either on the land line (508) 672-5111 or on VHF channel 13 and 16.

In accordance with 33 CFR 117.35(c), this work will be performed with all due speed in order to return the bridge to normal operation as soon as possible.

Should the bridge maintenance authorized by this temporary deviation be completed before the end of the effective period published in this notice, the Coast Guard will rescind the remainder of this temporary deviation, and the bridge shall be returned to its normal operating schedule. Notice of the above action shall be provided to the public in the Local Notice to Mariners and the Federal Register, where practicable.

This deviation from the operating regulations is authorized under 33 CFR 117.35.

Dated: March 15, 2007.
Gary Kassof,
Bridge Program Manager, First Coast Guard District.

[FR Doc. E7-5376 Filed 3-22-07; 8:45 am]

BILLING CODE 4910-15-P